ENVIRONMENTAL PROTECTION AGENCY

[A-1-FRL-8964-3]

Notice of Prevention of Significant Deterioration; Final Determination for Dominion Energy Brayton Point, Somerset, MA

AGENCY: Environmental Protection Agency (EPA).

ACTION: Notice of final action.

SUMMARY: This notice announces that on May 13, 2009, the Environmental Appeals Board (“EAB”) of EPA denied review of the petition for review of a Prevention of Significant Deterioration (“PSD”) permit (“Permit”) that EPA New England issued to Dominion Energy Brayton Point, LLC (“Dominion”). The Permit was issued pursuant to the PSD regulations under 40 CFR 52.21.

DATES: The effective date of the EAB's decision, and the Permit, is May 13, 2009. Pursuant to Section 307(b)(1) of the Clean Air Act (“CAA”), 42 U.S.C. 7607(b)(1), judicial review of this permit decision, to the extent it is available, may be sought by filing a petition for review in the United States Court of Appeals for the First Circuit within November 30, 2009.

ADDRESSES: The relevant documents for the Permit are available for public inspection during normal business hours at the following address: U.S. Environmental Protection Agency, EPA New England Regional Office, One Congress Street, Boston, MA 02114-2023. To arrange viewing of these documents, contact Donald Dahl at (617) 918-1657 or dahl.donald@epa.gov. The Permit is also available at http://www.epa.gov/NE/communities/pdf/braytonpoint/CoolingTowerPermit.pdf.

FOR FURTHER INFORMATION CONTACT: Donald Dahl, U.S. Environmental Protection Agency, EPA New England Regional Office, One Congress Street, Suite 1100 (mail code CAP), Boston, MA 02114-2023.

SUPPLEMENTARY INFORMATION: Throughout this document, “we,” “us” and “our” refer to EPA.

I. What Action Is EPA Taking?

II. What Is the Background Information?

III. What Did the EAB Decide?

I. What Action Is EPA Taking?

We are notifying the public of a final decision by the EAB on the Permit issued by EPA New England pursuant to the PSD regulations found at 40 CFR 52.21.

II. What Is the Background Information?

Dominion operates an existing coal-fired electric generating station in Somerset, Massachusetts. In March 2003, Massachusetts ended its agreement with EPA to implement the PSD program. Based on this action and since Massachusetts did not subsequently request PSD delegation, EPA is currently the PSD permitting authority within Massachusetts.

Dominion submitted a PSD application to EPA New England requesting approval to construct and operate two new cooling water towers at its facility in Somerset, Massachusetts. After consideration of the PSD application, EPA New England issued the draft Permit on January 28, 2009, for public review and comment. On April 2, 2009, after providing an opportunity for public comment and a public hearing on March 2, 2009, EPA issued the final Permit. The Permit limits particulate matter of 10 microns or less in size and particulate matter of 2.5 microns or less in size from each cooling water towers to 1,066 pounds per day. Subsequent to the issuance of the revised Permit, the EAB received a petition requesting review of the Permit. The EAB denied review of the petition.

III. What Did the EAB Decide?

The petition, which was filed by Bristol County Broadcasting, Incorporated, argued that the cooling water towers would have a significant adverse affect on the petitioner's AM radio transmissions. The EAB denied review of this petition on two points. First, the petition did not challenge any provision of the Permit governing air emissions of regulated pollutants. Second, the petitioner did not participate in the permitting process during the public comment period for the Permit. Readers interested in more detail on the appeal issues raised by the petitioner and the reasons for the EAB's denial of review may download EAB's Order Denying Review from the EAB Web site at http://www.epa.gov/eab.

Pursuant to 40 CFR 124.19(f)(1), for purposes of judicial review, final agency action occurs when a final PSD permit is issued and agency review procedures are exhausted. This notice is being published pursuant to 40 CFR 124.19(f)(2), which requires notice of any final agency action regarding a PSD permit to be published in the Federal Register. This notice constitutes notice of the final agency action denying review of the revised Permit and, consequently, notice of EPA New England's issuance of the Permit (PSD Permit No. 052-120-MA14) to Dominion. If available, judicial review of these determinations under section 307(b)(1) of the CAA may be sought only by the filing of a petition for review in the United States Court of Appeals for the First Circuit, within 60 days from the date on which this notice is published in the Federal Register. Under section 307(b)(2) of the CAA, this determination shall not be subject to later judicial review in any civil or criminal proceedings for enforcement.

Dated: August 5, 2009.
Ira W. Leighton,
Acting Regional Administrator, EPA New England.

[FR Doc. E9-23634 Filed 9-30-09; 8:45 am]

BILLING CODE 6560-50-P